DEPARTMENT OF COMMERCE

Patent and Trademark Office

[Docket No.: PTO-C-2014-0047]

Notice of Public Meeting on Trade Secret Topics

AGENCY: United States Patent and Trademark Office, Commerce.

ACTION: Notice of symposium.

SUMMARY: The protection of U.S. trade secrets from misappropriation is an Administration priority. As noted in the Administration Strategy on Mitigating the Theft of U.S. Trade Secrets (February 2013), “trade secret theft threatens American businesses, undermines national security, and places the security of the U.S. economy in jeopardy.” In pursuit of the goals of the Administration Strategy through information sharing and discussion, the United States Patent and Trademark Office will hold a public symposium on issues relevant to the protection of trade secrets. Topics to be discussed include losses due to trade secret theft and challenges to protecting trade secrets, the intersection of patent and trade secret protection, trade secret issues in civil litigation, trade secret protection in foreign jurisdictions, and proposed responses to the threat of trade secret theft in the U.S.

DATES: The symposium will be held on January 8, 2015. The symposium will begin at 9 a.m. and end at 3 p.m.

ADDRESSES: The symposium will be held at the United States Patent and Trademark Office, Madison Building, 600 Dulany Street, Alexandria, Virginia 22314.

FOR FURTHER INFORMATION CONTACT: For further information regarding the symposium, please contact Michael Smith, Jenny Blank, or Hollis Robinson at the Office of Policy and International Affairs, by telephone at (571) 272-9300, by email at tradesecrets@uspto.gov, or by postal mail addressed to: Mail Stop OPIA, United States Patent and Trademark Office, P.O. Box 1450, Alexandria, VA 22313-1450, ATTN: Michael Smith, Jenny Blank, or Hollis Robinson. Please direct all media inquiries to the Office of the Chief Communications Officer, USPTO, at (571) 272-8400.

SUPPLEMENTARY INFORMATION:

Trade Secret Symposium

Under U.S. law, trade secrets comprise commercially valuable information not generally known or readily ascertainable to the public that are subject to reasonable measures to maintain confidentiality. The protection of U.S. trade secrets from misappropriation is an Administration priority. As stated in the Administration Strategy on Mitigating the Theft of U.S. Trade Secrets (February 2013), “trade secret theft threatens American businesses, undermines national security, and places the security of the U.S. economy in jeopardy.” Likewise, increased mobility, globalization, and the anonymous/pseudonymous nature of the internet result in new challenges to protecting trade secrets. In pursuit of the goals of the Administration Strategy through information sharing and discussion, the United States Patent and Trademark Office will hold a public symposium on issues relevant to the protection of trade secrets. Topics to be discussed include losses due to trade secret theft and challenges in protecting trade secrets, the intersection of patent and trade secret protection, trade secret matters that arise in civil litigation, trade secret protection in foreign jurisdictions, and proposed responses to the threat of trade secret theft in the U.S. The symposium will feature panel discussions, and there will be opportunities for attendees to ask questions. It is expected that experts from academia, the legislative and executive branches, the judiciary, private legal practice, and industry will serve as panelists.

Instructions and Information on the Public Symposium

The symposium will be held on January 8, 2015, at the United States Patent and Trademark Office, Madison Building, 600 Dulany Street, Alexandria, Virginia 22314. The symposium will begin at 9 a.m. and end at 3 p.m. The agenda will be available a week before the symposium on the USPTO Web site, http://www.uspto.gov/. Registration is available at http://events.SignUp4.com/tradesecrets. Attendees may also register at the door one half-hour prior to the beginning of the symposium.

The symposium will be physically accessible to people with disabilities. Individuals requiring accommodation, such as sign language interpretation or other ancillary aids, should communicate their needs to Hollis Robinson at the Office of Policy and International Affairs, by telephone at (571) 272-9300, by email at hollis.robinson@uspto.gov, or by postal mail addressed to: Mail Stop OPIA, United States Patent and Trademark Office, P.O. Box 1450, Alexandria, VA 22313-1450, ATTN: Hollis Robinson, at least seven (7) business days prior to the symposium.

Dated: December 9, 2014.
Michelle K. Lee,
Deputy Under Secretary of Commerce for Intellectual Property and Deputy Director of the United States Patent and Trademark Office.

[FR Doc. 2014-29350 Filed 12-12-14; 8:45 am]

BILLING CODE 3510-16-P